DEPARTMENT OF ENERGY

Federal Energy Regulatory Commission

[Docket No. RP00-209-000]

Transcontinental Gas Pipe Line Corporation; Notice of Technical Conference

April 18, 2000.

In the Commission’s order issued on March 31, 2000,¹ the Commission directed that a technical conference be held to address issues raised by the filing.

¹ 90 FERC 61,348 (2000).

Take notice that the technical conference will be held on Tuesday, May 2, 2000, at 10:00 am in a room to be designated at the offices of the Federal Energy Regulatory Commission, 888 First Street, NE, Washington, DC 20426.

All interested parties and Staff are permitted to attend.

David P. Boergers,
Secretary.

[FR Doc. 00-10105 Filed 4-21-00; 8:45 am]

BILLING CODE 6717-01-M